DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Telephone Survey of Public Opinion Regarding Various Issues Related to Organ and Tissue Donation—New

The Division of Transplantation (DoT), Special Programs Bureau (SPB), Health Resources and Services Administration (HRSA), is planning to conduct a telephone survey of public knowledge, perceptions, opinion, and behaviors related to organ donation. Two key missions of the DoT are (1) to provide oversight for the Organ Procurement and Transplantation Network and policy development related to organ donation and transplantation, and (2) to implement efforts to increase public knowledge, attitudes, and behaviors related to organ and tissue donation. Effective education campaigns need to be based on knowledge of the public's attitudes and perceptions about, and perceived impediments to, organ donation.

The purpose of this study is to obtain current information on attitudes and perceptions of organ donation and transplantation of the general public and various population subgroups. The survey will measure issues such as level of public knowledge about donation, public intent to donate, impediments to public intent to donate, living donation, presumed consent, and financial incentives for donation. In addition to being useful to the DoT, results of this survey also will be of considerable assistance to the transplant community and to the Secretary's Advisory Committee on Organ Transplantation (ACOT) as it fulfills its charge to advise the Secretary of Health and Human Services on the numerous and often controversial issues related to donation and transplantation. In its first meeting, the ACOT suggested such a survey to gather information to inform both public education efforts and policy decisions on the issue of organ donation.

The burden estimate of for this activity is as follows:

Form | Number of respondents | Responses per respondent | Total responses | Hours per response | Total burden hours
Telephone Survey | 2,500 | 1 | 2,500 | .2 | 500

Written comments and recommendations concerning the proposed information collection should be sent within 30 days of this notice to: Desk Officer, Health Resources and Services Administration, Human Resources and Housing Branch, Office of Management and Budget, New Executive Office Building, Room 10235, Washington, DC 20503.

Dated: May 6, 2004.
Steven A. Pelovitz,
Acting Deputy Associate Administrator for Management and Program Support.

[FR Doc. 04-10834 Filed 5-12-04; 8:45 am]

BILLING CODE 4165-15-P